DEPARTMENT OF COMMERCE

National Oceanic and Atmospheric Administration

RIN 0648-XM93

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors in February 2009. The intent of this meeting is to discuss issues of relevance to the Councils, including FY 2009 budget allocations, budgetary planning and performance metrics, the upcoming 5-year grants awards cycle, and implementation of the Magnuson-Stevens Fishery Conservation and Management Act (Magnuson-Stevens Act).

DATES: The meeting will begin at 9 a.m. on Wednesday, February 25, 2009, recess at 5:30 p.m. or when business is complete; and reconvene at 8:30 a.m. on Thursday, February 26, 2009, and adjourn by 4:30 p.m.

ADDRESSES: The meeting will be held at the Crowne Plaza Hotel, 8777 Georgia Avenue, Silver Spring, MD 20910, telephone 301-589-0800, fax 301-587-4791.

FOR FURTHER INFORMATION CONTACT: William D. Chappell: telephone 301-713-2337 or e-mail at William.Chappell@noaa.gov; or Linda Moon: telephone 301-713-2337 or e-mail at Linda.Moon@noaa.gov.

SUPPLEMENTARY INFORMATION: The Magnuson-Stevens Fishery Conservation and Management Reauthorization Act (MSRA) of 2006 established the Council Coordination Committee (CCC) by amending Section 302 (16 U.S.C. 1852) of the Magnuson-Stevens Act. The committee consists of the chairs, vice chairs, and executive directors of each of the eight Regional Fishery Management Councils authorized by the Magnuson-Stevens Act or other Council members or staff. NMFS will host this meeting and provide reports to the CCC for its information and discussion. The main topics of discussion will be the FY2009 budget allocation, budgetary planning and performance metrics, implementation of the provisions of the MSRA, and related guidance and technical regulatory changes. All sessions are open to the public.

Proposed Agenda

Wednesday, February 25, 2009

9:00 a.m. Morning Session Begins

9:00-10:00 Welcome comments and open session with Councils

10:00-10:30 Marine Protected Areas Update

10:30-10:45 Break

10:45-12:00 p.m. Budget issues (General update and FY 2009 allocation)

• Council base funding

• Limited Access Privilege Programs funding

• Stipends

12:00-1:30 Lunch

1:30 Afternoon Session Begins

1:30-3:00 Planning Programming Budgeting and Execution System and

Performance Metrics

3:00-3:15 Break

3:15-4:15 Five Year Grants Award Cycle

4:15-5:15 Observer Costs Comparison

5:15-5:30 Maintaining Complete Council Fishery Management Plans (FMPs)

5:30 p.m. Adjourn for the Day

Thursday, February 26, 2009

8:30 a.m.-Morning Session Begins

8:30-10:00 Magnuson-Stevens Act Implementation—

• General overview/update

• Marine Recreational Information Program (MRIP)

• National Standard 2 guidelines

• National Environmental Policy Act procedures

• Annual catch limit (ACL) and accountability measure guidance

10:00-10:15 a.m. Break

10:15-12:00 p.m. Council Reports/Updates by each Council

• ACLs—Status of implementation for 2010& 2011

• Ending overfishing—Measures in FMPs or plans for each stock

• Rebuilding status—Progress toward targets for each stock

12:00-1:30 Lunch

1:30-Afternoon Session Begins

1:30-2:30 Stock Assessment Criteria/ Stock Status Reporting.

2:30-3:30 Marine Debris and Derelict Fishing Gear Update

3:30-3:45 Break

3:45-4:15 Contractor Badges for Council Members/Staffs

4:15-4:30 Wrap-up

4:30 p.m. Adjourn.

The order in which the agenda items are addressed may change. The CCC will meet as late as necessary to complete scheduled business.

Special Accommodations

This meeting is physically accessible to people with disabilities. Requests for sign language interpretation or other auxiliary aids should be directed to Linda Moon at 301-713-2337x131 at least 5 working days prior to the meeting.

Dated: January 27, 2009
Emily H. Menashes,
Acting Director, Office of Sustainable Fisheries, National Marine Fisheries Service.

[FR Doc. E9-2264 Filed 2-2-09; 8:45 am]

BILLING CODE 3510-22-S